DEPARTMENT OF DEFENSE

Department of the Army

[Docket ID: USA-2024-HQ-0014]

Proposed Collection; Comment Request

AGENCY: Department of the Army, Department of Defense (DoD).

ACTION: 60-Day information collection notice.

SUMMARY: In compliance with the Paperwork Reduction Act of 1995, the Army & Air Force Exchange Service (Exchange) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 4, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Army & Air Force Exchange Service, Office of the General Counsel, Compliance Division, ATTN: Teresa Schreurs, 3911 South Walton Walker Blvd., Dallas, TX 75236-1598, through email to PrivacyManager@aafes.com, or call the Exchange Compliance Division at 800-967-6067, Option 5.

SUPPLEMENTARY INFORMATION:

Title; Associated Form; and OMB Number: Exchange Employment Applications; Exchange Forms 1200-718 and 1200-026; OMB Control Number 0702-0133.

Needs and Uses: This information collection covers the documentation related to the employment of individuals to the Exchange within the Continental United States of America and Exchange facilities outside the Continental United States of America. The collection allows the Exchange to capture the essential information required to evaluate applicants for Exchange civilian opportunities in order to hire the best, qualified individuals empowering the Exchange's mission of enhancing the quality of life for members of the U.S. Military.

Affected Public: Individuals or households.

Annual Burden Hours: 55,830.

Number of Respondents: 111,660.

Responses per Respondent: 1.

Annual Responses: 111,660.

Average Burden per Response: 30 minutes.

Frequency: On occasion.

Dated: July 30, 2024.
Aaron T. Siegel,
Alternate OSD Federal Register Liaison Officer, Department of Defense.

[FR Doc. 2024-17176 Filed 8-2-24; 8:45 am]

BILLING CODE 6001-FR-P